FEDERAL COMMUNICATIONS COMMISSION

47 CFR Part 73

[DA 00-67, MM Docket No. 00-7, RM-9799]

Radio Broadcasting Services; Alva, OK

AGENCY: Federal Communications Commission.

ACTION: Proposed rule.

SUMMARY: The Commission requests comments on a petition filed by Wing-&-a-Prayer Broadcasting Company seeking the allotment of Channel 296C3 to Alva, OK, as the community's fourth local FM service. Channel 296C3 can be allotted to Alva in compliance with the Commission's minimum distance separation requirements without the imposition of a site restriction, at coordinates 36-48-06 North Latitude and 98-40-00 West Longitude.

DATES: Comments must be filed on or before March 6, 2000, and reply comments on or before March 21, 2000.

ADDRESSES: Federal Communications Commission, 445 12th Street, S.W., Room TW-A325, Washington, DC 20554. In addition to filing comments with the FCC, interested parties should serve the petitioner, or its counsel or consultant, as follows: Bryce S. Kennedy, One Grand Center, Mezzanine Suite, Enid, OK 73701 (Counsel to petitioner).

FOR FURTHER INFORMATION CONTACT: Leslie K. Shapiro, Mass Media Bureau, (202) 418-2180.

SUPPLEMENTARY INFORMATION: This is a synopsis of the Commission's Notice of Proposed Rule Making, MM Docket No. 00-7, adopted January 5, 2000, and released January 14, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio Broadcasting.

Federal Communications Commission.
John A. Karousos,
Chief, Allocations Branch, Policy and Rules Division, Mass Media Bureau.

[FR Doc. 00-1929 Filed 1-26-00; 8:45 am]

BILLING CODE 6712-01-U